DEPARTMENT OF LABOR

Employment and Training Administration

[TA-W-38, 321]

International Paper, Lock Haven, PA; Notice of Revised Determination on Reconsideration

On May 24, 2001, the Department issued a Notice of Affirmative Determination Regarding Application for Reconsideration regarding the petition for workers of the subject firm. The notice was published in the Federal Register on June 8, 2001 (66 FR 30949).

The initial investigation resulted in a negative determination issued on February 1, 2001, based on the finding that during the time period relevant to the petition investigation, sales and production of reprographic and printing paper produced by workers of International Paper, Lock Haven, Pennsylvania, increased. The denial notice was published in the Federal Register on March 2, 2001 (64 FR 13086).

Officials of International Paper, Lock Haven, Pennsylvania, presented new information on sales, production, and employment at the Lock Haven plant. This new information on reconsideration, confirms that criterion: (1) Of the group eligibility requirements of Section 222 of the Trade Act of 1974 is met, and shows that criterion (2) is met. There are declines in employment and production of paper at the subject firm plant.

The reprographic and printing paper produced by International Paper are sold both directly and indirectly to a large number of customers nationwide. Because of the nature of their market, an analysis of aggregate United States imports of the products manufactured at the subject plant can best reflect the impact of imports on sales, production and employment at that plant. From 1999 to 2000 there was an increase in aggregate U.S. imports for consumption of papers like or directly competitive with those produced by the workers at Lock Haven, Pennsylvania.

This worker group was previously certified under petition number TA-W-35, 445, which expired February 10, 2001.

Conclusion

After careful review of the additional facts obtained on reconsideration, I conclude that increased imports of articles like or directly competitive with reprographic and printing paper contributed importantly to the declines in sales or production and to the total or partial separation of workers of International Paper, Lock Haven, Pennsylvania. In accordance with the provisions of the Act, I make the following certification:

All workers of International Paper, Lock Haven, Pennsylvania, who became totally or partially separated from employment on February 11, 2001, through two years from the date of this certification, are eligible to apply for adjustment assistance under Section 223 of the Trade Act of 1974.

Signed in Washington, DC this 13th day of June 2001.
Edward A. Tomchick,
Director, Division of Trade Adjustment Assistance.

[FR Doc. 01-16153 Filed 6-26-01; 8:45 am]

BILLING CODE 4510-30-M